DEPARTMENT OF LABOR

Mine Safety and Health Administration

30 CFR Part 3

Office of Management and Budget (OMB) Control Numbers under the Paperwork Reduction Act

AGENCY: Mine Safety and Health Administration (MSHA), Labor.

ACTION: Technical amendment.

SUMMARY: This technical amendment revises title 30 of the Code of Federal Regulations (30 CFR) to update the display of Office of Management and Budget (OMB) control numbers for MSHA's standards and regulations. This display assists the public search for current information on OMB control numbers for the information collection, recordkeeping, and reporting requirements approved by OMB under the Paperwork Reduction Act of 1995 (PRA 95).

EFFECTIVE DATE: June 30, 2003.

FOR FURTHER INFORMATION CONTACT: Marvin W. Nichols, Director; Office of Standards, Regulations, and Variances, MSHA; Phone: 202-693-9440; FAX: 202-693-9441; E-mail: nichols-marvin@msha.gov.

SUPPLEMENTARY INFORMATION: We (MSHA) first consolidated our listing of OMB control numbers in a final rule published on June 29, 1995 (60 FR 33719). This action codified the OMB control numbers for our standards and regulations in one location to assist the public in quickly determining whether a specific information collection requirement was approved by OMB. Table 1 in 30 CFR 3.1 displays the OMB control number for each section containing a requirement for the collection, reporting, recordkeeping, or dissemination of information. This display fulfills the requirements of 44 U.S.C. 3507(f) of PRA 95 which prohibits an agency from engaging in a collection of information without displaying its OMB control number. Under PRA 95, a person is not required to respond to a collection of information if a valid OMB control number is not displayed.

This revision updates our current display of OMB control numbers to include new control numbers approved by OMB for regulations completed since the last update and any changes made through the renewal of previously issued OMB control numbers. There are no substantive changes or renewals made to information collection requirements by this technical amendment.

Information collection requirements go through the public review process as part of the rule to which they apply. Likewise, the renewal of an OMB control number also requires public review. As a result, we find that there is “good cause” under 5 U.S.C. 553(b)(B) of the Administrative Procedure Act (APA) to issue this technical amendment to Table 1 in 30 CFR part 3 without prior public notice and comment.

We also determined that there is no need to delay the effective date. The technical amendment contains no new requirements for which the public would need time, beyond that provided for in the regulation itself, to plan compliance. We find, therefore, there is “good cause” to except this action from the 30-day delayed effective date requirement under 5 U.S.C. 553(b)(B) of the Administrative Procedure Act.

List of Subjects in 30 CFR Part 3

Mine safety and health, Reporting and recordkeeping requirements.

Dated: June 24, 2003.
Dave D. Lauriski,
Assistant Secretary of Labor for Mine Safety and Health.

Accordingly, under the authority of 30 U.S.C. 957, chapter I of title 30, Code of Federal Regulations is amended as set forth below.

PART 3—[AMENDED]

1. The authority for part 3 continues to read as follows:

Authority: 30 U.S.C. 957; 44 U.S.C. 3501-3520.

2. Amend section 3.1 by revising Table 1 to read as follows:

* * * * *

Table 1.—OMB Control Numbers
30 CFR Citation | OMB Control No.
Subchapter B—Testing, Evaluation, and Approval of Mining Products
7.3 | 1219-0100
7.4 | 1219-0100
7.6 | 1219-0100
7.7 | 1219-0100
7.23 | 1219-0100
7.27 | 1219-0100
7.28 | 1219-0100
7.29 | 1219-0100
7.43 | 1219-0100
7.46 | 1219-0100
7.47 | 1219-0100
7.48 | 1219-0100
7.49 | 1219-0100
7.51 | 1219-0100
7.63 | 1219-0100
7.69 | 1219-0100
7.71 | 1219-0100
7.83 | 1219-0119
7.90 | 1219-0119
7.97 | 1219-0119
7.105 | 1219-0119
7.303 | 1219-0100
7.306 | 1219-0100
7.309 | 1219-0100
7.311 | 1219-0100
7.403 | 1219-0100
7.407 | 1219-0100
7.408 | 1219-0100
7.409 | 1219-0100
15.4 | 1219-0066
15.8 | 1219-0066
18.6 | 1219-0066
18.15 | 1219-0066
18.81 | 1219-0066
18.82 | 1219-0066
18.93 | 1219-0066
18.94 | 1219-0066
19.3 | 1219-0066
19.13 | 1219-0066
20.3 | 1219-0066
20.14 | 1219-0066
22.4 | 1219-0066
22.11 | 1219-0066
23.3 | 1219-0066
23.14 | 1219-0066
27.4 | 1219-0066
27.6 | 1219-0066
27.11 | 1219-0066
28.10 | 1219-0066
28.25 | 1219-0066
28.30 | 1219-0066
28.31 | 1219-0066
33.6 | 1219-0066
33.12 | 1219-0066
35.6 | 1219-0066
35.12 | 1219-0066
36.6 | 1219-0066
36.12 | 1219-0066
Subchapter G—Filing and Other Administrative Requirements
40.3 | 1219-0042
40.4 | 1219-0042
40.5 | 1219-0042
41.10 | 1219-0008
41.11 | 1219-0008
41.12 | 1219-0008
41.20 | 1219-0008
43.2 | 1219-0014
43.4 | 1219-0014
43.7 | 1219-0014
43.8 | 1219-0014
44.9 | 1219-0065
44.10 | 1219-0065
44.11 | 1219-0065
45.3 | 1219-0043
45.4 | 1219-0040
46.3 | 1219-0131
46.5 | 1219-0131
46.6 | 1219-0131
46.7 | 1219-0131
46.8 | 1219-0131
46.9 | 1219-0131
46.11 | 1219-0131
47.31 | 1219-0133
47.41 | 1219-0133
47.51 | 1219-0133
47.61 | 1219-0133
47.71 | 1219-0133
47.73 | 1219-0133
48.3 | 1219-0009
48.9 | 1219-0070
48.23 | 1219-0009
48.29 | 1219-0070
49.2 | 1219-0078
49.3 | 1219-0078
49.4 | 1219-0078
49.6 | 1219-0078
49.7 | 1219-0078
49.8 | 1219-0078
49.9 | 1219-0078
Subchapter I—Accidents, Injuries, Illnesses, Employment, and Production in Mines
50.10 | 1219-0007
50.11 | 1219-0007
50.20 | 1219-0007
50.30 | 1219-0006
Subchapter K—Metal and Nonmetal Mine Safety and Health
56.1000 | 1219-0092
56.3203(a) | 1219-0121
56.5005 | 1219-0048
56.13015 | 1219-0089
56.13030 | 1219-0089
56.14100 | 1219-0089
56.18002 | 1219-0089
56.19022 | 1219-0034
56.19023 | 1219-0034
56.19057 | 1219-0049
56.19121 | 1219-0034
56.19132 | 1219-0034
57.1000 | 1219-0092
57.3203(a) | 1219-0121
57.3461 | 1219-0097
57.5005 | 1219-0048
57.5037 | 1219-0003
57.5040 | 1219-0003
57.5047 | 1219-0039
57.5060 | 1219-0135
57.5066 | 1219-0135
57.5070 | 1219-0135
57.5071 | 1219-0135
57.5075 | 1219-0135
57.8520 | 1219-0016
57.8525 | 1219-0012
57.11053 | 1219-0046
57.13015 | 1219-0089
57.13030 | 1219-0089
57.14100 | 1219-0089
57.18002 | 1219-0089
57.19022 | 1219-0034
57.19023 | 1219-0034
57.19057 | 1219-0049
57.19121 | 1219-0034
57.19132 | 1219-0034
57.22004(c) | 1219-0103
57.22204 | 1219-0030
57.22229 | 1219-0103
57.22230 | 1219-0103
57.22231 | 1219-0103
57.22239 | 1219-0103
57.22401 | 1219-0096
57.22606 | 1219-0095
Subchapter M—Uniform Mine Health Regulations
62.110 | 1219-0120
62.130 | 1219-0120
62.170 | 1219-0120
62.171 | 1219-0120
62.172 | 1219-0120
62.173 | 1219-0120
62.174 | 1219-0120
62.175 | 1219-0120
62.180 | 1219-0120
62.190 | 1219-0120
Subchapter O—Coal Mine Safety and Health
70.201(c) | 1219-0011
70.202 | 1219-0011
70.204 | 1219-0011
70.209 | 1219-0011
70.220 | 1219-0011
71.201(c) | 1219-0011
71.202 | 1219-0011
71.204 | 1219-0011
71.209 | 1219-0011
71.220 | 1219-0011
71.300 | 1219-0011
71.301 | 1219-0011
71.403 | 1219-0024
71.404 | 1219-0024
72.503 | 1219-0124
72.510 | 1219-0124
72.520 | 1219-0124
75.100 | 1219-0069
75.153(a)(2) | 1219-0001
75.155 | 1219-0069, 0127
75.159 | 1219-0127
75.160 | 1219-0127
75.161 | 1219-0127
75.204(a) | 1219-0121
75.215 | 1219-0004
75.220 | 1219-0004
75.221 | 1219-0004
75.223 | 1219-0004
75.310 | 1219-0088
75.312 | 1219-0088
75.342 | 1219-0088
75.351 | 1219-0088, 0067
75.360 | 1219-0088, 0125
75.361 | 1219-0088
75.362 | 1219-0088
75.363 | 1219-0088, 0119
75.364 | 1219-0088
75.370 | 1219-0088
75.371 | 1219-0119
75.372 | 1219-0073
75.373 | 1219-0073
75.382 | 1219-0088
75.512 | 1219-0067
75.703-3(d)(11) | 1219-0067
75.800-4 | 1219-0067
75.820(b), (e) | 1210-0116
75.821 | 1219-0116
75.900-4 | 1219-0067
75.1001-1(c) | 1219-0067
75.1100-3 | 1219-0054
75.1101-23 | 1219-0054
75.1103-8 | 1219-0054
75.1103-11 | 1219-0054
75.1200 | 1219-0073
75.1200-1 | 1219-0073
75.1201 | 1219-0073
75.1202 | 1219-0073
75.1202-1 | 1219-0073
75.1203 | 1219-0073
75.1204 | 1219-0073
75.1204-1 | 1219-0073
75.1321 | 1219-0025
75.1327 | 1219-0025
75.1400-2 | 1219-0034
75.1400-4 | 1219-0034
75.1432 | 1219-0034
75.1433 | 1219-0034
75.1501 | 1219-0137
75.1502 | 1219-0137
75.1702 | 1219-0041
75.1712-4 | 1219-0024
75.1712-5 | 1219-0024
75.1713-1 | 1219-0078
75.1714-3(e) | 1219-0044
75.1716 | 1219-0020
75.1716-1 | 1219-0020
75.1716-3 | 1219-0020
75.1721 | 1219-0073
75.1901 | 1219-0119
75.1904(b)(4)(i) | 1219-0119
75.1911 | 1219-0119
75.1912 | 1219-0119
75.1914 | 1219-0119
75.1915 | 1219-0119, 0124
77.100 | 1219-0069
77.103(a)(2) | 1219-0001
77.105 | 1219-0069, 0127
77.106 | 1219-0127
77.107 | 1219-0127
77.107-1 | 1219-0127
77.215 | 1219-0015
77.215-2 | 1219-0015
77.215-3 | 1219-0015
77.215-4 | 1219-0015
77.216-2 | 1219-0015
77.216-3 | 1219-0015
77.216-4 | 1219-0015
77.216-5 | 1219-0015
77.502 | 1219-0067
77.800-2 | 1219-0067
77.900-2 | 1219-0067
77.1000 | 1219-0026
77.1000-1 | 1219-0026
77.1101 | 1219-0051
77.1200 | 1219-0073
77.1201 | 1219-0073
77.1202 | 1219-0073
77.1404 | 1219-0034
77.1432 | 1219-0034
77.1433 | 1219-0034
77.1702 | 1219-0078
77.1713 | 1219-0083
77.1900 | 1219-0019
77.1901 | 1219-0082
77.1906 | 1219-0034
77.1909-1 | 1219-0025
90.201(c) | 1219-0011
90.202 | 1219-0011
90.204 | 1219-0011
90.209 | 1219-0011
90.220 | 1219-0011
90.300 | 1219-0011
90.301 | 1219-0011

[FR Doc. 03-16352 Filed 6-27-03; 8:45 am]

BILLING CODE 4510-43-P